DEPARTMENT OF TRANSPORTATION

Federal Aviation Administration

14 CFR Part 39

[Docket No. FAA-2006-24409; Directorate Identifier 2005-NM-057-AD; Amendment 39-14555; AD 2005-05-20]

RIN 2120-AA64

Airworthiness Directives; Boeing Model 747-100, 747-100B, 747-100B SUD, 747-200B, 747-200F, 747-300, 747-400, 747-400D, 747SP, 747SR, 767-200, 767-300, 777-200, 777-300, and 777-300ER Series Airplanes

AGENCY: Federal Aviation Administration (FAA), Department of Transportation (DOT).

ACTION: Final rule; request for comments.

SUMMARY: This document publishes in the Federal Register an amendment adopting airworthiness directive (AD) 2005-05-20 that was sent previously to all known affected U.S. operators of certain Boeing Model 747-100, 747-100B, 747-100B SUD, 747-200B, 747-200F, 747-300, 747-400, 747-400D, 747SP, 747SR, 767-200, 767-300, 777-200, 777-300, and 777-300ER series airplanes by individual notices. This AD requires modification of certain flight deck door electronic equipment. This AD results from a report indicating that this equipment is defective. We are issuing this AD to prevent failure of this equipment, which could jeopardize flight safety.

DATES: This AD becomes effective April 17, 2006 to all persons except those persons to whom it was made immediately effective by AD 2005-05-20, issued April 14, 2005, which contained the requirements of this amendment.

We must receive comments on this AD by June 12, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Boeing Commercial Airplanes, P.O. Box 3707, Seattle, Washington 98124-2207.

Docket: The AD docket contains this AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2006-24409; the directorate identifier for this docket is 2005-NM-057-AD.

FOR FURTHER INFORMATION CONTACT: Georgios Roussos, Aerospace Engineer, Systems and Equipment Branch, ANM-130S, FAA, Seattle Aircraft Certification Office (ACO), 1601 Lind Avenue, SW., Renton, Washington 98055-4056; telephone (425) 917-6482; fax (425) 917-6590.

SUPPLEMENTARY INFORMATION:

Discussion

On April 14, 2005, we issued AD 2005-05-20, which applies to certain Boeing 747-100, 747-100B, 747-100B SUD, 747-200B, 747-200F, 747-300, 747-400, 747-400D, 747SP, 747SR, 767-200, 767-300, 777-200, 777-300, and 777-300ER series airplanes. AD 2005-05-20 was sent to affected operators having airplanes that have certain affected flight deck door electronic equipment.

Background

We have received a report indicating that certain flight deck door electronic equipment is defective. The defect, if not corrected, could result in a failure of the equipment, which could jeopardize flight safety.

Relevant Service Information

We have reviewed the Boeing service bulletins listed in the table below. These service bulletins describe procedures for correcting the defect in the flight deck door electronic equipment. Accomplishing the actions specified in the applicable service information is intended to adequately address the unsafe condition.

Boeing Service Bulletins
Affected Boeing model and series | Boeing service bulletin | Date
747-100, 747-100B, 747-100B SUD, 747-200B, 747-200F, 747-300, 747-400, 747-400D, 747SP, 747SR | 747-52-2274 | February 21, 2005.
767-200, 767-300 | 767-52-0087 | February 21, 2005
777-200, 777-300, 777-300ER | 777-52-0035 | February 21, 2005

The Boeing service bulletins refer to Northwest Aerospace Technologies Service Bulletin 44N00004-52-01, dated March 1, 2005, as an additional source of service information.

FAA's Determination and Requirements of This AD

Since the unsafe condition described is likely to exist or develop on other airplanes of the same type design, we issued AD 2005-05-20 to prevent a failure of certain flight deck door electronic equipment. The AD requires modifying the equipment using a method approved by the Manager, Seattle Aircraft Certification Office, FAA. The Boeing service information previously described has been approved for this purpose.

We found that immediate corrective action was required; therefore, notice and opportunity for prior public comment thereon were impracticable and contrary to the public interest, and good cause existed to make the AD effective immediately by individual notices issued on April 14, 2005, to all known affected U.S. operators of certain Boeing Model 747-100, 747-100B, 747-100B SUD, 747-200B, 747-200F, 747-300, 747-400, 747-400D, 747SP, 747SR, 767-200, 767-300, 777-200, 777-300, and 777-300ER series airplanes. These conditions still exist, and this AD is hereby published in the Federal Register as an amendment to section 39.13 of the Federal Aviation Regulations (14 CFR 39.13) to make it effective to all persons. We are publishing this AD to ensure that, in the event that persons who did not receive an individual notice acquire an affected airplane that has not been modified, these persons are aware of the AD, so they can make the necessary modifications.

Clarification of Alternative Method of Compliance (AMOC) Paragraph

We have revised this action to clarify the appropriate procedure for notifying the principal inspector before using any approved AMOC on any airplane to which the AMOC applies.

Comments Invited

This AD is a final rule that involves requirements that affect flight safety and was not preceded by notice and an opportunity for public comment; however, we invite you to submit any relevant written data, views, or arguments regarding this AD. Send your comments to an address listed in the ADDRESSES section. Include “Docket No. FAA-2006-24409; Directorate Identifier 2005-NM-057-AD” at the beginning of your comments. We specifically invite comments on the overall regulatory, economic, environmental, and energy aspects of the AD. We will consider all comments received by the closing date and may amend the AD in light of those comments.

We will post all comments we receive to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If this emergency regulation is later deemed significant under DOT Regulatory Policies and Procedures, we will prepare a final regulatory evaluation and place it in the AD Docket. See the ADDRESSES section for a location to examine the regulatory evaluation, if filed.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-20 Boeing: Amendment 39-14555. Docket No. FAA-2006-24409; Directorate Identifier 2005-NM-057-AD.

Effective Date

(a) This AD becomes effective April 17, 2006, to all persons except those persons to whom it was made immediately effective by AD 2005-05-20, issued on April 14, 2005, which contained the requirements of this amendment.

Affected ADs

(b) None.

Applicability

(c) This AD applies to the airplanes identified in Table 1 of this AD, certificated in any category.

Table 1.—Applicability
Boeing model and series | As identified in Boeing service bulletin | Date
747-100, 747-100B, 747-100B SUD, 747-200B, 747-200F, 747-300, 747-400, 747-400D, 747SP, and 747SR | 747-52-2274 | February 21, 2005.
767-200 and 767-300 | 767-52-0087 | February 21, 2005.
777-200, 777-300, and 777-300ER | 777-52-0035 | February 21, 2005.

Unsafe Condition

(d) This AD results from a report indicating that certain flight deck door electronic equipment is defective. The FAA is issuing this AD to prevent failure of this equipment.

Compliance

(e) You are responsible for having the actions required by this AD performed within the compliance times specified, unless the actions have already been done.

Modification

(f) Within 30 days after the effective date of this AD: Modify the flight deck door electronic equipment in accordance with a method approved by the Manager, Seattle Aircraft Certification Office (ACO), FAA. Doing all actions in the Accomplishment Instructions of the applicable Boeing service bulletin identified in Table 1 of this AD is one approved method.

Note 1: The Boeing service bulletins identified in Table 1 of this AD refer to Northwest Aerospace Technologies Service Bulletin 44N00004-52-01, dated March 1, 2005, as an additional source of service information.

Note 2: This AD retains certain requirements of AD 2005-05-20. The corresponding paragraph identifiers for these requirements have changed in this AD, as listed in the following table:

Table 2.—Revised Paragraph Identifiers
Requirement in SSAD 2005-05-20 | Corresponding requirement in this AD
Paragraph (g) | Paragraph (f).
Paragraph (i) | Paragraph (g).

Alternative Methods of Compliance (AMOCs)

(g)(1) The Manager, Seattle ACO, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Issued in Renton, Washington, on April 4, 2006.
Kalene C. Yanamura,
Acting Manager, Transport Airplane Directorate, Aircraft Certification Service.

[FR Doc. 06-3437 Filed 4-10-06; 8:45 am]

BILLING CODE 4910-13-P